NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at Colorado School of Mines by NSF Division of Materials Research (DMR) #1203.

Dates and Times: Thursday, April 22, 2010; 8:30 a.m.- 4 p.m.

Place: Colorado School of Mines, Golden, CO.

Type of Meeting: Part-open.

Contact Person: Dr. Charles Ying, Program Director, Materials Research Science and Engineering Centers Program, Division of Materials Research, Room 1065, National Science Foundation, 4201 Wilson Boulevard, Arlington, VA 22230, Telephone (703) 292-8428.

Purpose of Meeting: To provide advice and recommendations concerning progress of the MRSEC at the Colorado School of Mines.

Agenda: Thursday, April 22, 2010

8:30 a.m.-2 p.m. Open—Review of the Colorado School of Mines MRSEC.

2 p.m.-4 p.m. Closed—Executive Session.

Reason for Closing: The work being reviewed may include information of a proprietary or confidential nature, including technical information; financial data, such as salaries and personal information concerning individuals associated with the proposals. These matters are exempt under 5 U.S.C. 552b(c), (4) and (6) of the Government in the Sunshine Act.

Dated: February 23, 2010.
Susanne Bolton,
Committee Management Officer.

[FR Doc. 2010-3976 Filed 2-25-10; 8:45 am]

BILLING CODE 7555-01-P